NUCLEAR REGULATORY COMMISSION

Draft Revision 9 of NUREG-1021, “Operator Licensing Examination Standards for Power Reactors”; Notice of Availability

AGENCY: Nuclear Regulatory Commission.

ACTION: Notice of Availability for comment and voluntary, trial use.

SUMMARY: The Nuclear Regulatory Commission (NRC) has issued for public comment and voluntary use, on a trial basis, Draft Revision 9 of NUREG-1021, “Operator Licensing Examination Standards for Power Reactors.” The Commission uses NUREG-1021 to provide policy and guidance for the development, administration, and grading of written examinations and operating tests used to determine the qualifications of individuals who apply for reactor operator (RO) and senior reactor operator (SRO) licenses at nuclear power plants pursuant to the Commission's regulations in 10 CFR Part 55, “Operators' Licenses.” NUREG-1021 also provides guidance for verifying the continued qualifications of licensed operators when the staff determines that NRC requalification examinations are necessary.

The draft revision includes a number of changes that the NRC staff believes will reduce the regulatory burden on facility licensees and improve efficiency, while maintaining operational safety and public confidence: Notably, the RO written examination has been shortened from 100 to 75 questions, the design of the 100-question SRO written examination has been clarified and simplified, the administrative and systems portions of the walk-through operating test have been combined and reapportioned, and the grading criteria for the simulator operating test have been clarified to enhance consistency. A number of additional changes have been made to address questions raised since Revision 8, Supplement 1, was issued in April 2001 and to conform with other regulatory activities. The changes are outlined in the Executive Summary of the draft revision and are identified with highlights and strikeouts for ease of review.

The draft revision is available for review via the NRC's Public Electronic Reading Room (http://www.nrc.gov/public-involve/doc-comment.html), on the NRC's Operator Licensing Web site (http://www.nrc.gov/reactors/operator-licensing.html), and in the NRC's Public Document Room located at 11555 Rockville Pike, Rockville, Maryland. If you do not have electronic access to NRC documents, you may request a single copy of the draft revision by writing to the Office of the Chief Information Officer, Reproduction and Distribution Services Branch, U.S. Nuclear Regulatory Commission, Washington, DC 20555-0001 (Facsimile: 301-512-2289). Telephone requests cannot be accommodated. NUREG documents are not copyrighted, and Commission approval is not required to reproduce them.

Draft Revision 9 is being immediately implemented on a voluntary, trial basis. The NRC will evaluate any comments and recommendations that are received and any lessons that are learned during the trial period, incorporate any additional changes, as appropriate, and, thereafter, publish final Revision 9 for general use. Minor changes and clarifications that may become necessary during the trial period will be promulgated, without formal notice, via the NRC's Operator Licensing Web site (http://www.nrc.gov/reactors/operator-licensing.html).

DATES: The comment period ends December 31, 2003. Comments received after this date will be considered if it is practical to do so, but the staff is able to assure consideration only for comments received on or before this date.

ADDRESSES: Written comments may be submitted to the Rules and Directives Branch, Division of Administrative Services, Office of Administration, U.S. Nuclear Regulatory Commission, Washington, DC 20555-0001. You may also provide comments via the NRC's Operator Licensing Web site (http://www.nrc.gov/reactors/operator-licensing.html) or the NRC's Public Electronic Reading Room (http://www.nrc.gov/reading-rm/doc-collections/nuregs/ #comments). Copies of comments received may be examined at the NRC's Public Document Room, 11555 Rockville Pike, Rockville, Maryland.

FOR FURTHER INFORMATION CONTACT: Mr. S. Guenther by telephone at (301) 415-1056, or by e-mail at sxg@nrc.gov.

Dated at Rockville, Maryland, this 23rd day of January 2003.
For the Nuclear Regulatory Commission.
Theodore R. Quay,
Chief, Equipment and Human Performance Branch, Division of Inspection Program Management, Office of Nuclear Reactor Regulation.

[FR Doc. 03-2413 Filed 1-31-03; 8:45 am]

BILLING CODE 7590-01-P